DEPARTMENT OF THE INTERIOR

Bureau of Land Management

[LLNML00000 L14300000.FR0000 NMNM 037574]

Notice of Realty Action: Recreation and Public Purposes Act Classification of Public Land in Sierra County, NM

AGENCY: Bureau of Land Management, Interior.

ACTION: Notice of Realty Action.

SUMMARY: The Bureau of Land Management (BLM) has examined 30.12 acres of public land in Sierra County, New Mexico, and found them suitable for classification for conveyance under the provisions of the Recreation and Public Purposes (R&PP) Act, as amended. A closed landfill currently exists on the property under an R&PP Act lease, and the City of Truth or Consequences proposes to continue its use for the existing landfill. The land is not needed for any Federal purpose and is encumbered by an existing landfill. A conveyance would allow the City of Truth or Consequences to continue monitoring the landfill in accordance with the approved closure plan.

DATES: Interested parties may submit comments regarding the proposed conveyance or classification of the land until February 6, 2014.

ADDRESSES: You may submit comments by any of the following methods:

• Email: blm_nm_lcdo_comments@blm.gov.

• Fax: 575-525-4412, Attention: Kendrah Penn.

• Mail or personal delivery: Kendrah Penn, City of T or C Landfill Project Lead, BLM Las Cruces District Office, 1800 Marquess Street, Las Cruces, NM 88005.

Documents pertinent to this proposal may be examined at the Las Cruces District Office at the above address.

FOR FURTHER INFORMATION CONTACT: Kendrah Penn, Realty Specialist, at the above address or by telephone at 575-525-4382 or email at kpenn@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: In accordance with Section 7 of the Taylor Grazing Act, (43 U.S.C. 315f), and Executive Order No. 6910, the following described public land in Sierra County, New Mexico, has been examined and found suitable for classification for conveyance under the provisions of the R&PP Act, as amended, (43 U.S.C. 869 et seq.):

New Mexico Principal Meridian, New Mexico

T. 13 S., R. 4 W.,

Sec. 22, lot 3.

The area described contains 30.12 acres.

The described public land was previously classified for lease under the R&PP Act on August 14, 1959, and was leased to the City of Truth or Consequences on March 20, 1961.

The landfill was closed in 1974 and has continued to be closed to municipal waste disposal since the date of closure. Throughout the years, the City of Truth or Consequences has maintained the area as a closed landfill in anticipation that any future development of the property would not conflict with the approved landfill closure plan. In accordance with the R&PP Act of June 14, 1926, as amended, the City of Truth or Consequences filed an application for purchase of the above-described 30.12 acres of public land. The land is not needed for any Federal purpose. The conveyance is consistent with the White Sands Resource Management Plan, dated October 1986, and would be in the public's interest. The patent, if issued, will be subject to the provisions of the R&PP Act and applicable regulations of the Secretary of the Interior, including, but not limited to the provisions at 43 CFR part 2743. The conveyance, when issued, will contain the following terms, conditions, and reservations to the United States:

1. Reservation of rights-of-way thereon for ditches or canals constructed by the authority of the United States, Act of August 30, 1890 (43 U.S.C. 945).

2. Reservation of all the mineral deposits in the lands so patented, and the right of the United States, or persons authorized by the United States, to prospect for, mine, and remove such deposits from the same under applicable laws and regulations as the Secretary of the Interior may prescribe.

3. The patent will be subject to all valid existing rights documented on official public land records at the time of patent issuance.

4. No portion of the land patented shall revert back to the United States under any circumstance. In addition, the patentee will comply with all Federal and State laws applicable to the disposal, placement, or release of hazardous substances (substance as defined in 40 CFR part 302) and indemnify the United States against any legal liability or future costs that may arise out of any violation of such laws.

5. The above described land has been used for solid waste disposal. Solid waste commonly includes small quantities of commercial hazardous waste and household hazardous waste as determined in the Resource Conservation and Recovery Act of 1976, as amended (42 U.S.C. 6901) and defined in 40 CFR 261.4 and 271.5. Although there is no indication these materials pose any significant risk to human health, or the environment, future land uses should be limited to those which do not penetrate the liner or final cover of the landfill unless excavation is conducted subject to applicable State and Federal requirements.

6. The purchaser (patentee), by accepting a patent, covenants and agrees to indemnify, defend and hold the United States harmless from any costs, damages, claims, causes of action, penalties, fines, liabilities, and judgments of any kind or nature arising from the past, present, and future acts or omissions of the patentee or its employees, agents, contractors, lessees, or any third party, arising out of or in connection with the patentee's use, occupancy, or operations on the patented real property. This indemnification and hold harmless agreement includes, but is not limited to, acts and omissions of the patentee and their employees, agents, contractors, lessees, or any third party, arising out of or in connection with the use and/or occupancy of the patented real property which has already resulted or does hereafter result in (1) Violations of Federal, State, and local laws and regulations that are now, or may in the future become, applicable to the real property; (2) Judgments, claims or demands of any kind assessed against the United States; (3) Costs, expenses, or damages of any kind incurred by the United States; (4) Other releases or threatened releases of solid or hazardous waste(s) and/or hazardous substance(s), as defined by Federal or State environmental laws of, on, into or under land, property and other interests of the United States; (5) Other activities by which solid waste or hazardous substance(s) or waste, as defined by Federal and State environmental laws are generated, released, stored, used or otherwise disposed of on the patented real property, and any cleanup response, remedial action or other actions related in any manner to said solid or hazardous substance(s) or waste(s); or (6) Natural resource damages as defined by Federal and State law. This covenant shall be construed as running with the parcel of land patented or otherwise conveyed by the United States and may be enforced by the United States in a court of competent jurisdiction.

Conveyance of this land to the City of Truth Consequences is consistent with applicable Federal and county land use plans, and BLM policy.

On December 23, 2013, the land described above will be segregated from all other forms of appropriation under the public land laws, including the general mining laws, except for conveyance under the R&PP Act, leasing under the mineral leasing laws, and disposals under the mineral material disposal laws.

Classification Comments: Interested parties may submit comments involving the suitability of the land for a conveyance of a landfill. Comments on the classification are restricted to whether the land is physically suited for the proposal, whether the use will maximize the future use or uses of the land, whether the use is consistent with local planning and zoning, or if the use is consistent with State and Federal programs.

Application Comments: Interested parties may submit comments regarding the specific use proposed in the application and plan of development, whether the BLM followed proper administrative procedures in reaching the decision to convey under the R&PP Act, or any other factor not directly related to the suitability of the land for use as an existing landfill.

The public may submit comments in writing directly to the BLM using one of the methods listed in the ADDRESSES section above. Comments should be submitted on or before February 6, 2014.

Before including your address, phone number, email address, or other personal identifying information in your comment, you should be aware that your entire comment—including your personal identifying information—may be made publicly available at any time. While you can ask us in your comment to withhold your personal identifying information from public review, we cannot guarantee that we will be able to do so. Any adverse comments will be reviewed by the BLM New Mexico State Director who may sustain, vacate, or modify this realty action. In the absence of any adverse comments, the classification of the land described in this notice will become effective on February 21, 2014. The land will not be available for conveyance until after the classification becomes effective.

Authority: 43 CFR part 2740.

Bill Childress,
District Manager, Las Cruces.

[FR Doc. 2013-30485 Filed 12-20-13; 8:45 am]

BILLING CODE 4310-FB-P